DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, call the HRSA Reports Clearance Officer on (301) 443-1129.

Comments are invited on: (a) Whether the proposed collection of information is necessary for the proper performance of the functions of the Agency, including whether the information shall have practical utility; (b) the accuracy of the Agency's estimate of the burden of the proposed collection of information; (c) ways to enhance the quality, utility, and clarity of the information to be collected; and (d) ways to minimize the burden of the collection of information on respondents, including the use of automated collection techniques or other forms of information technology.

Proposed Project: Health Professions Student Loan (HPSL) Program and Nursing Student Loan (NSL) Program Administrative Requirements (Regulations and Policy)(OMB No. 0915-0047)—Extension

The regulations for the Health Professions Student Loan (HPSL) Program and Nursing Student Loan (NSL) Program contain a number of reporting and recordkeeping requirements for schools and loan applicants. The requirements are essential for assuring that borrowers are aware of rights and responsibilities that schools know the history and staus of each loan account that schools pursue aggressive collection efforts to reduce default rates, and that they maintain adequate records for audit and assessment purposes. Schools are free to use improved information technology to manage the information required by the regulations.

The estimated total annual burden is 34,558 hours. The burden estimates are as follows:

Recordkeeping Requirements
Regulatory/section requirements | Number of recordkeepers | Hours per year | Total burden hours
HPSL Program:
57.206(b)(2), Documentation of Cost of Attendance | 547 | 1.17 | 640
57.208(a), Promissory Note | 547 | 1.25 | 684
57.210((b)(1)(i), Documentation of Entrance Interview | 547 | 1.25 | 684
57.210(b)(1)(ii), Documentation of Exit Interview | *576 | 0.33 | 190
57.215(a) & (d), Program Records | *576 | 10 | 5,760
57.215(b), Student Records | *576 | 10 | 5,760
57.215(c), Repayment Records | *576 | 18.75 | 10,800
HPSL Subtotal | 576 |  | 24,518
NSL Program:
57.306(b)(2)(ii), Documentation of Cost of Attendance | 315 | 0.3 | 95
57.308(a), Promissory Note | 315 | 0.5 | 158
57.310(b)(1)(i), Documentation of Entrance Interview | 315 | 0.5 | 158
57.310(b)(1)(ii), Documentation of Exit Interview | *502 | 0.17 | 85
57.315(a)(1) & (a)(4), Program Records | *502 | 5 | 2,510
57.315(a)(2), Student Records | *502 | 1 | 502
57.315(a)(3), Repayment Records | *502 | 2.51 | 1,255
NSL Subtotal | 502 |  | 4,763
*Includes active and closing schools.
HPSL data includes active and closing Loans for Disadvantaged Students (LDS) program schools.

Reporting Requirements
Regulatory/section requirements | Number of respondents | Responses per respondent | Total annual responses | Hours per response | Total hour burden
HPSL Program:
57.205(a)(2), Excess Cash | Burden included under 0915-0044
57.206(a)(2), Student Financial Aid Transcript | 4,679 | 1 | 4,679 | .25 | 1,170
57.208(c), Loan Information Disclosure | 547 | 68.73 | 37,595 | .0833 | 3,132
57.210(a)(3), Deferment Eligibility | Burden included under 0915-0044
57.210(b)(1)(i), Entrance Interview | 547 | 68.73 | 37,595 | 0.167 | 6,278
57.210(b)(1)(ii), Exit Interview | *547 | 12 | 6,564 | 0.5 | 3,282
57.210(b)(1)(iii), Notification of Repayment | *547 | 30.83 | 16,864 | 0.167 | 2,816
57.210(b)(1)(iv), Notification During Deferment | *547 | 24.32 | 13,303 | 0.0833 | 1,108
57.210(b)(1)(vi), Notification of Delinquent Accounts | *547 | 10.28 | 5,623 | 0.167 | 518
57.210(b)(1)(x), Credit Bureau Notification | *547 | 8.03 | 4,392 | 0.6 | 2,635
57.210(b)(4)(i), Write-off of Uncollectible Loans | 20 | 1.00 | 20 | 3.0 | 60
57.211(a) Disability Cancellation | 8 | 1 | 8 | .75 | 6
57.215(a) Reports | Burden included under 0915-0044
57.215(a)(2), Administrative Hearings | 0 | 0 | 0 | 0 | 0
57.215(a)(d), Administrative Hearings | 0 | 0 | 0 | 0 | 0
HPSL Subtotal | 8,681 |  | 109,779 |  | 16,703
NSL Program: |  |  |  |  |
57.305(a)(2), Excess Cash | Burden included under 0915-0044
57.306(a)(2), Student Financial Aid Transcript | 4,062 | 1 | 4,062 | 0.25 | 1,016
57.310(b)(1)(i), Entrance Interview | 315 | 23.51 | 7,406 | 0.167 | 1,237
57.310(b)(1)(ii), Exit Interview | *502 | 3.77 | 1,892 | 0.5 | 946
57.301(b)(1)(iii), Notification of Repayment | *502 | 6.18 | 3,102 | 0.167 | 518
57.310(b)(1)(iv), Notification During Deferment | *502 | 0.65 | 326 | 0.083 | 27
57.310(b)(1)(vi), Notification of Delinquent Accounts | *502 | 4.61 | 2,314 | 0.167 | 386
57.310(b)(1)(x), Credit Bureau Notification | *502 | 8.3 | 4,167 | 0.6 | 2,500
57.310(b)(4)(i), Write-off of Uncollectible Loans | 20 | 1.0 | 20 | 3.5 | 70
57.311(a), Disability Cancellation | 7 | 1.0 | 7 | 0.8 | 5.6
57.312(a)(3), Evidence of Educational Loans | Inactive Provision
57.315(a)(1), Reports | Burden included under 0915-0044
57.315(a)(1)(ii), Administrative Hearings | 0 | 0 | 0 | 0 | 0
57.316(a)(d), Administrative Hearings | 0 | 0 | 0 | 0 | 0
NSL Subtotal | 6,914 |  | 23,296 |  | 6,706
* Includes active and closing schools.

Send comments to Susan G. Queen, PhD, HRSA Reports Clearance Officer, Room 10-33, Parklawn Building, 5600 Fishers Lane, Rockville, MD 20857. Written comments should be received within 60 days of this notice.

Dated: May 18, 2005.
Tina M. Cheatham,
Director, Division of Policy Review and Coordination.

[FR Doc. 05-10430 Filed 5-24-05; 8:45 am]

BILLING CODE 4165-15-P